DEPARTMENT OF ENERGY

Federal Energy Regulatory Commission

[Docket No. AD15-11-000]

Electronic Filing Protocols for Commission Forms; Notice of Conference With North American Energy Standards Board

Take notice that, on June 10, 2015, Commission staff will lead a technical conference, pursuant to the Commission's April 16, 2015 Order Instituting Proceeding to Develop Electronic Filing Protocols for Commission Forms,¹ that will include the North American Energy Standards Board (NAESB) and interested members of the public and industry to discuss the transition to a new submission format for certain forms and NAESB's assistance in the process of developing standards for the submission of data to the Commission for the following Commission forms: Forms 1, 1-F, 2, 2-A, 3-Q electric, 3-Q gas, 6, 6-Q, FERC-60, and FERC-714. The technical conference will explore a transition to XML format, as well as the protocols and standards needed to provide metadata that will enable the Commission to develop a database to track the information submitted to the Commission in those forms.

¹ Electronic Filing Protocols for Commission Forms, 151 FERC ¶ 61,025 (2015).

The technical conference will be held from 10:00 a.m. until 4:00 p.m. (Eastern Time) at the Federal Energy Regulatory Commission, 888 First Street NE., Washington, DC 20426, in the Commission Meeting Room. The conference is open to the public. Pre-registration through the Commission's Web site (https://www.ferc.gov/whats-new/registration/06-10-15-form.asp) is encouraged but not required.

The Commission will post information on the technical conference on the Calendar of Events on the Commission's Web site, http://www.ferc.gov, prior to the conference. The conference will also be webcast and transcribed. The webcast will be available through a link on the Commission's Calendar of Events available at http://www.ferc.gov. An email account has been created for off-site participants to submit questions for the question and answer session at the technical conference. At any time prior to and during the technical conference, please email questions to eForms.Refresh@ferc.gov. The Capitol Connection provides technical support for webcasts and offers the option of listening to the meeting via phone-bridge for a fee. For technical support, visit http://www.CapitolConnection.org or call (703) 993-3100. Transcripts of the technical conference will be available for a fee from Ace-Federal Reporters, Inc.; contact them at (202) 347-3700.

Background material can be found on the Commission's Web site (www.ferc.gov; click on Documents & Filings, then Forms, and finally on eForms Refresh), and will also be available on NAESB's Web site (www.naesb.org). Notices of any subsequent meetings will be posted on both the Commission's and NAESB's Web sites.

The Commission will accept comments following the conference, with a deadline of June 30, 2015.

Conferences held at the Federal Energy Regulatory Commission are accessible under section 508 of the Rehabilitation Act of 1973. For accessibility accommodations please send an email to accessibility@ferc.gov or call toll free 1-866-208-3372 (voice) or 202-502-8659 (TTY), or send a FAX to 202-208-2106 with the required accommodations.

For more information about this conference, please contact Robert Hudson (Technical Information), Office of Enforcement, at (202) 502-6620 or Robert.Hudson@ferc.gov, or Sarah McKinley (Logistical Information), Office of External Affairs at (202) 502-8368 or Sarah.McKinley@ferc.gov.

Dated: May 1, 2015.
Kimberly D. Bose,
Secretary.

[FR Doc. 2015-10976 Filed 5-6-15; 8:45 am]

BILLING CODE 6717-01-P